DEPARTMENT OF THE INTERIOR

Bureau of Land Management

[MTM 88993]

Public Land Order No. 7480; Withdrawal of National Forest System Lands in the Rocky Mountain Front; Montana

AGENCY: Bureau of Land Management, Interior.

ACTION: Public Land Order.

SUMMARY: This order withdraws approximately 405,000 acres of National Forest System lands from location and entry under the United States mining laws for a period of 20 years to preserve the traditional cultural uses by Native Americans, threatened and endangered species, and the outstanding scenic values and roadless character.

EFFECTIVE DATE: January 22, 2001.

FOR FURTHER INFORMATION CONTACT: David Whittekiend, Lewis and Clark National Forest, 1101 15th Street North, Great Falls, Montana 59403-0869, 406-791-7700.

By virtue of the authority vested in the Secretary of the Interior by Section 204 of the Federal Land Policy and Management Act of 1976, 43 U.S.C. 1714 (1994), it is ordered as follows:

1. Subject to valid existing rights, the National Forest System lands within the following described areas are hereby withdrawn from location and entry under the United States mining laws (30 U.S.C. Ch. 2 (1994)) to preserve the outstanding values of the Rocky Mountain Front:

Principal Meridian, Montana

(PB identifies Protracted Blocks)

T. 16 N., R. 6 W.,

Secs. 30 and 31.

T. 15 N., R. 7 W.,

Secs. 2 and 6.

T. 16 N., R. 7 W., unsurveyed

T. 17 N., R. 7 W., partly unsurveyed

T. 16 N., R. 8 W., unsurveyed

PB 37, PBs 43 to 47, inclusive, Secs. 12, 13, 14, 23, 26, 27, and 28, excluding wilderness;

PB 48 and Secs. 24 and 25;

T. 17 N., R. 8 W., partly unsurveyed

PBs 37 and 39, and Secs. 2, 11, 12, 13, and 25;

PBs 38, 40, and 41, and Secs. 3, 10, 14, 15, 22, 35 and 36, excluding wilderness.

T. 18 N., R. 8 W., unsurveyed

PBs 37 to 50, inclusive, Secs. 7 to 10, inclusive, and Secs. 14, 15, 16, 23, 26 and 35;

Secs. 17, 18, 20, 21, 22, 27, and 34, excluding wilderness.

T. 18 N., R. 9 W.,

PB 37;

PB 38 and Secs. 3, 11, 12, and 13, excluding wilderness.

T. 19 N., R. 9 W.,

Secs. 25 and 36;

PBs 37 to 44, inclusive, Secs. 4 to 11, inclusive, Secs. 14, 15, 16, 22, 23, and 27, unsurveyed;

Secs. 17, 18, 20, 21, 28, 33, and 34, unsurveyed, excluding wilderness.

T. 20 N., R. 9 W., partly unsurveyed

T. 21 N., R. 9 W., partly unsurveyed

T. 22 N., R. 9 W., unsurveyed

PBs 37 to 52, inclusive, Secs. 2 to 5, inclusive, Secs. 8 to 11, inclusive, Secs. 14 to 18, inclusive, Secs. 20 to 23, inclusive, and Secs. 26 to 29, inclusive;

Secs. 6 and 7, excluding wilderness.

T. 23 N., R. 9 W., unsurveyed

PBs 37 to 42, inclusive, Secs. 2, 3, 10, 11, 14, 15, 21, 22, 23, 26, 27, 28, 33, 34, and 35;

Secs. 4, 5, 8, and 9, Secs. 16 to 20, inclusive, and Secs. 29 to 32, inclusive, excluding wilderness.

T. 24 N., R. 9 W., unsurveyed

PBs 37 to 42, inclusive, Secs. 2 to 11, inclusive, Secs. 14 to 17, inclusive, and Secs. 21, 22, 23, 26, 27, 34 and 35;

Secs. 18, 19, 20, 28, 29, 30, and 33, excluding wilderness.

T. 25 N., T. 9 W., unsurveyed

T. 26 N., R. 9 W., unsurveyed

PBs 37, 38, and 39, PBs 44 to 48, inclusive, Secs. 11, 14, 23, 26, 33, 34, and 35;

PBs 40 and 41, Secs. 10, 15, and 22, Secs. 27 to 32, inclusive, excluding wilderness.

T. 27 N., R. 9 W.,

Secs. 9, 16, 21, 22, 23, 26, 27, 34 and 35;

Secs. 28 and 33, excluding wilderness.

T. 19 N., R. 10 W.,

Secs. 1, 2, 12, and 13, excluding wilderness.

T. 20 N., R. 10 W., unsurveyed

Secs. 1 to 5, inclusive, Secs. 8 to 17, inclusive, Secs. 21 to 28, inclusive, and Sec. 36;

Secs. 6, 7, 18, 19, 20, and 29, Secs. 32 to 35, inclusive, excluding wilderness.

T. 21 N., R. 10 W., unsurveyed

PBs 37 and 38, Secs. 12 and 13, Secs. 24 to 28, inclusive, and Secs. 33 to 36, inclusive;

PB 39, Secs. 11, 14, and 15, Secs. 20 to 23, inclusive, and Secs. 29 to 32, inclusive, excluding wilderness.

T. 22 N., R. 10 W., partly unsurveyed

PBs 37, 38, 40, and 41, Secs. 1, 2, 11, 14, and 35, excluding wilderness;

PB 39 and Secs. 12, 13, 25, 26, and 36;

T. 24 N., R. 10 W., unsurveyed

Secs. 1, 12, and 13, excluding wilderness.

T. 25 N., R. 10 W., unsurveyed

Secs. 1, 2, 3, 11, 12, and 13;

Sec. 4, excluding wilderness and Flathead National Forest System lands;

Secs. 9, 10, 14, 15, 23, 24, 25, and 36, excluding wilderness.

T. 26 N., R. 10 W.,

Secs. 25 and 26, excluding wilderness;

Secs. 27, 28, and 33, excluding wilderness and Flathead National Forest System lands;

Secs. 34, 35, and 36.

T. 28 N., R. 10 W.,

PBs 38, 39, and 40, and Secs. 6, 7, and 18, unsurveyed;

PB 41, and Secs. 19 and 30, excluding wilderness, unsurveyed.

T. 29 N., R. 10 W.,

PBs 37, 38, and 39, and Secs. 30 and 31, unsurveyed.

T. 20 N., R. 11 W., unsurveyed

Secs. 12 and 13, excluding wilderness.

T. 27 N., R. 11 W., unsurveyed

Secs. 3, 4, and 5, excluding wilderness.

T. 28 N., R. 11 W.,

Secs. 1 to 24, inclusive, and Sec. 28;

Secs. 25, 26, and 27, and Secs. 29 to 34, inclusive, excluding wilderness.

T. 29 N., R. 11 W.,

PBs 37 to 44, inclusive, Secs. 5 to 9, inclusive, Secs. 15 to 23, inclusive, and Secs. 25 to 36, inclusive, unsurveyed.

T. 30 N., R. 11 W.,

PBs 37, 38, and 39, unsurveyed.

T. 28 N., R. 12 W., unsurveyed

Secs. 1 to 18, inclusive, and Secs. 22 to 26, inclusive;

Secs. 19, 20, 21, 27, 28, and 34, excluding wilderness and Flathead National Forest System lands;

Secs. 35 and 36, excluding wilderness.

T. 29 N., R. 12 W., unsurveyed

Secs. 1 to 30, inclusive, and Secs. 32 to 36, inclusive; Sec. 31, excluding Flathead National Forest System lands.

T. 30 N., R. 12 W.,

PBs 37 to 46, inclusive, Tract 47, PBs 48, 49, and 50, sec. 7, Secs. 17 to 21, inclusive, and Secs. 26 to 36, inclusive.

T. 31 N., R. 12 W.,

Sec. 31, excluding Blackfeet Indian Reservation.

T. 28 N., R. 13 W.,

Secs. 1 and 2, Secs. 11 to 14, inclusive, and Sec. 23, excluding Flathead National Forest System lands;

Sec. 24, excluding wilderness and Flathead National Forest System lands.

T. 29 N., R. 13 W.,

Secs. 1 to 4, inclusive, and Secs. 10 to 14, inclusive;

Secs. 5, 6, 8, 9, 15, and 16, Secs. 22 to 25, inclusive, and sec. 36, excluding Flathead National Forest System lands.

T. 30 N., R. 13 W., unsurveyed

PBs 37, 38, 40, and 40A, PBs 43 to 51, inclusive, PBs 54, 55, 56, and 59, PBs 61 to 66, inclusive, PB 68, Secs. 23 to 27, inclusive, and Secs. 32 to 36, inclusive, and all unpatented tracts;

PB 71, excluding Flathead National Forest System lands.

T. 31 N., R. 13 W.,

PBs 42, 46, 48, 49, and 50, unsurveyed.

The areas described contain approximately 405,000 acres in Lewis and Clark, Teton, Pondera, and Glacier Counties.

2. This withdrawal will expire 20 years from the effective date of this order unless, as a result of a review conducted before the expiration date pursuant to Section 204(f) of the Federal Land Policy and Management Act of 1976, 43 U.S.C. 1714(f) (1994), the Secretary determines that the withdrawal shall be extended.

Dated: January 16, 2001.
Sylvia V. Baca,
Assistant Secretary of the Interior.

[FR Doc. 01-1816 Filed 1-19-01; 8:45 am]

BILLING CODE 3410-11-P